FEDERAL COMMUNICATIONS COMMISSION

Notice of Public Information Collection(s) Being Submitted for Review to the Office of Management and Budget

January 5, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 20, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0979.

Title: Spectrum Audit Letter.

Form No.: N/A.

Type of Review: Extension of a currently approved collection.

Respondents: Individuals or households; business or other for-profit; not-for-profit institutions and state, local or tribal governments.

Number of Respondents: 310,000.

Estimated Time Per Response: .5 hours.

Frequency of Response: One time reporting requirement.

Total Annual Burden: 155,000 hours.

Total Annual Cost: N/A.

Privacy Act Impact Assessment: No.

Needs and Uses: This collection will be submitted as an extension (after this 60 day comment period) to OMB in order to obtain the full three year clearance.

The information collected is required for an audit of the construction and operational status of various Wireless Radio services in the Commission's licensing database that are subject to rule-based construction and operational requirements. The Commission's rules for these radio services require construction within a specified timeframe and require a station to remain operational in order for the license to remain valid.

OMB Control No.: 3060-0824.

Title: Service Provider Identification Number and Contact Form.

Form No.: FCC Form 498.

Type of Review: Revision of a currently approved collection.

Respondents: Business or other for-profit and not-for-profit institutions.

Number of Respondents: 5,000.

Estimated Time Per Response: 1.5 hours.

Frequency of Response: On occasion reporting requirement and third party disclosure requirement.

Total Annual Burden: 7,500 hours.

Total Annual Cost: N/A.

Privacy Act Impact Assessment: N/A.

Needs and Uses: This collection will be submitted as a revision (after this 60 day comment period) to OMB in order to obtain the full three year clearance. FCC Form 498 enables participants to request a Service Provider Identification Number (SPIN) and provides the official record for participation in the universal service support mechanisms. The general and remittance contact information provided by participants on the FCC Form 498 enables the Universal Service Administrative Company (USAC) to send service providers their payments. Based on administrative and operational experience, and feedback from the community of service providers, FCC Form 498 is being revised to more clearly present and collect the information being requested. Clarification statements have been added and language has been simplified to make the collection of the information required easier for the participants. This has resulted in a net decrease in burden hours for the respondents.

Federal Communications Commission.
Marlene H. Dortch,
Secretary.

[FR Doc. 06-323 Filed 1-17-06; 8:45 am]

BILLING CODE 6712-01-P